DEPARTMENT OF COMMERCE

International Trade Administration

[A-570-985]

Xanthan Gum From the People's Republic of China: Amended Final Results of the Antidumping Duty Administrative Review; 2017-2018

AGENCY: Enforcement and Compliance, International Trade Administration, Department of Commerce.

SUMMARY: The Department of Commerce (Commerce) finds that the collapsed entity, Neimenggu Fufeng Biotechnologies Co., Ltd. (aka Inner Mongolia Fufeng Biotechnologies Co., Ltd.)/Shandong Fufeng Fermentation Co., Ltd./Xinjiang Fufeng Biotechnologies Co., Ltd. (collectively, Fufeng) is eligible for separate rate status. The period of review (POR) is July 1, 2017, through June 30, 2018.

DATES: Applicable January 5, 2022.

FOR FURTHER INFORMATION CONTACT: Thomas Hanna, AD/CVD Operations, Office IV, Enforcement and Compliance, International Trade Administration, U.S. Department of Commerce, 1401 Constitution Avenue NW, Washington, DC 20230; telephone: (202) 482-0835.

SUPPLEMENTARY INFORMATION:

Background

On September 3, 2021, Commerce published the amended preliminary results of this administrative review of the antidumping duty order on xanthan gum from the People's Republic of China (China).¹ This review covers the POR, July 1, 2017, through June 30, 2018.² No parties commented on the Amended Preliminary Results.

¹ See Xanthan Gum from the People's Republic of China: Amended Final Determination of Sales at Less Than Fair Value and Antidumping Duty Order, 78 FR 43143 (July 19, 2013) (Order).

² See Xanthan Gum from the People's Republic of China: Amended Preliminary Results of the Antidumping Duty Administrative Review; 2017-2018, 86 FR 49512 (September 3, 2021) (Amended Preliminary Results).

Scope of the Order

The product covered by the Order is dry xanthan gum, whether or not coated or blended with other products, from China (xanthan gum).³

³ For a complete description of the scope of the Order, see the Memorandum, “Xanthan Gum from the People's Republic of China: Decision Memorandum for the Amended Preliminary Results of the 2017-2018 Antidumping Duty Administrative Review” (Preliminary Decision Memorandum).

Analysis

In the Amended Preliminary Results, Commerce determined that Fufeng was eligible for separate rate status and assigned it a dumping margin of zero percent, which is the dumping margin that Commerce calculated for both of the respondents individually examined in the review. As noted above, no parties commented on the Amended Preliminary Results. In these amended final results of review, we are making no change to and are adopting the decisions in the Preliminary Decision Memorandum. Specifically, we continue to find that Fufeng is eligible for separate rate status and that it is appropriate to assign Fufeng the zero percent dumping margin that Commerce calculated for both of the respondents that it individually examined in the review.

Assessment

Pursuant to section 751(a)(2)(C) of the Tariff Act of 1930 as amended (the Act), and 19 CFR 351.212(b), Commerce will determine, and U.S. Customs and Border Protection (CBP) shall assess, antidumping duties on all appropriate entries of subject merchandise covered by the amended final results of this review. Because Fufeng's weighted average dumping margin is zero percent, we will instruct CBP to liquidate the appropriate entries without regard to antidumping duties.⁴ Commerce intends to issue assessment instructions to CBP no earlier than 35 days after the date of publication of these amended final results of review in the Federal Register.⁵ If a timely summons is filed at the U.S. Court of International Trade, the assessment instructions will direct CBP not to liquidate relevant entries until the time for parties to file a request for a statutory injunction has expired (i.e., within 90 days of publication).

⁴ See Antidumping Proceedings: Calculation of the Weighted-Average Dumping Margin and Assessment Rate in Certain Antidumping Duty Proceedings; Final Modification, 77 FR 8101, 8103 (February 14, 2012).

⁵ See Notice of Discontinuation of Policy to Issue Liquidation Instructions After 15 Days in Applicable Antidumping and Countervailing Duty Administrative Proceedings, 86 FR 3995 (January 15, 2021).

Cash Deposit Requirements

The cash deposit rate for Fufeng is zero percent, which will be effective for shipments of the subject merchandise entered, or withdrawn from warehouse, for consumption on or after the date of publication of this notice in the Federal Register, as provided for by section 751(a)(2)(C) of the Act. For information regarding the cash deposit requirements established for other companies in this segment of the proceeding, see the Final Results.⁶ This cash deposit requirement, when imposed, shall remain in effect until further notice.

⁶ See Xanthan Gum from the People's Republic of China: Final Results of Antidumping Duty Administrative Review and Final Determination of No Shipments; 2017-2018, 84 FR 64831 (November 25, 2019).

Notification to Importers

This notice serves as a final reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Administrative Protective Orders

This notice also serves as a reminder to parties subject to an administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

These amended final results of administrative review are issued and published in accordance with sections 751(a)(1) and 777(i)(1) of the Act, and 19 CFR 351.213(h)(1) and 19 CFR 351.221(b)(5).

Dated: December 29, 2021.
Ryan Majerus,
Deputy Assistant Secretary for Policy and Negotiations, performing the non-exclusive functions and duties of the Assistant Secretary for Enforcement and Compliance.

[FR Doc. 2021-28508 Filed 1-4-22; 8:45 am]

BILLING CODE 3510-DS-P